POSTAL SERVICE

39 CFR Part 111

New Mailing Standards for Domestic Mailing Services Products

AGENCY: Postal Service™.

ACTION: Proposed rule.

SUMMARY: On October 6, 2023, the Postal Service (USPS®) filed a notice of mailing services price adjustments with the Postal Regulatory Commission (PRC), effective January 21, 2024. This proposed rule contains the revisions to Mailing Standards of the United States Postal Service, Domestic Mail Manual (DMM®) that we would adopt to implement the changes coincident with the price adjustments. Additionally, various portions of DMM section 207 will be revised to implement the changes coincident with collapsing zones for Periodicals which was effective as of July 9, 2023.

DATES: Submit comments on or before November 15, 2023.

ADDRESSES: Mail or deliver written comments to the Manager, Product Classification, U.S. Postal Service, 475 L'Enfant Plaza SW, Room 4446, Washington, DC 20260-5015. If sending comments by email, include the name and address of the commenter and send to PCFederalRegister@usps.gov, with a subject line of “January 2024 Domestic Mailing Services Proposal.” Faxed comments are not accepted.

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Steven Mills at (202) 268-7433, Lynne Hallett at (202) 268-2213, or Doriane Harley at (202) 268-2537.

SUPPLEMENTARY INFORMATION:

Proposed prices will be available under Docket No. R2024-1 on the Postal Regulatory Commission's website at www.prc.gov.

The Postal Service's proposed rule includes: changes to prices, mail classification updates, product simplification efforts, and minor revisions to the DMM.

Certificate of Mailing—Automated Solution

Currently, Certificate of Mailing is processed manually at the BMEU for individual pieces of First-Class Mail®, USPS Marketing Mail®, and Package Services. Certificate of Mailing provides evidence of mailing only and does not provide a record of delivery.

The Postal Service is proposing to add an automated option for processing forms 3606-D Certificate of Bulk Mailing; 3665 Certificate of Mailing; and 3877 Firm Mailing Book for Accountable Mail at the BMEU when electronically uploaded to PostalOne! and payment via EPS (Enterprise Payment System).

Promotion Eligible Product Identification

Currently, mailers are unable to see the discount breakdown at product level for each promotion; in addition, when a new promotion is added or an existing promotion is enhanced, changes applied to the product line is not readily available to mailers.

The Postal Service is proposing an update that will enable mailers to see promotion discounts at the product level for each promotion as well as ensure all updates are applied to applicable systems in sync.

These proposed revisions will provide consistency within postal products and add value for customers.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, 39 CFR part 111 is proposed to be amended as follows:

PART 111—GENERAL INFORMATION ON POSTAL SERVICE

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

207 Periodicals

* * * * *

2.0 Price Application and Computation

2.1 Price Application

* * * * *

2.1.4 Applying Pound Price

Apply pound prices to the weight of the pieces in the mailing as follows:

[Revise items a and b to read as follows:]

a. Outside-County (including Science-of-Agriculture) pound prices are based on the weight of the advertising portion sent to each destination entry and the weight of the nonadvertising portion to a destination entry.

b. In-County pound prices consist of a DDU entry price and a Non-DDU entry price for eligible copies delivered to addresses within the county of publication.

* * * * *

2.1.5 Computing Weight of Advertising and Nonadvertising Portions

[Revise the text of 2.1.5 to read as follows:]

The pound price charge is the sum of the charges for the computed weight of the advertising portion of copies to each destination entry, plus the sum of the charges for the computed weight of the nonadvertising portion of copies to each destination entry. The following standards apply:

a. The minimum pound price charge for any entry level to which copies are mailed is the 1-pound price. For example, three 2-ounce copies for an entry are subject to the minimum 1-pound charge.

b. Authorized Nonprofit and Classroom publications with an advertising percentage that is 10% or less are considered 100% nonadvertising. When computing the pound prices and the nonadvertising adjustment, use “0” as the advertising percentage. Authorized Nonprofit and Classroom publications claiming 0% advertising must pay the nonadvertising pound price for the entire weight of all copies.

* * * * *

2.2 Computing Postage

* * * * *

2.2.3 Computing Other Weights

To find the total weight of mailed copies per entry level, multiply the corresponding number of copies by the computed weight per copy. Round off each result to the nearest whole pound, except that when the result is under 0.5 pound, round to 1 pound. To find the weight of the advertising portion for each entry, where applicable, multiply the total weight of copies for that entry by the percentage of advertising. Round off each result to the nearest whole pound, except that when the result is under 0.5 pound, round to 1 pound. To find the weight of the nonadvertising portion, subtract the total weight of the advertising portion to all entry levels from the total weight of copies to all entry levels. To find the weight of In-County price copies, multiply the number of copies by the weight per copy and round off the total weight to the nearest whole pound, except that when the result is less than 0.5 pound, round to 1 pound.

* * * * *

8.0 Record Keeping Standards for Publishers

8.1 Basic Standards

* * * * *

8.1.2 Information Required

Records must be available so that the USPS can determine: * * *

[Delete item c and renumber items (d and e) as (c and d)]

* * * * *

8.2 Verification

8.2.1 Purpose

[Revise the text of 8.2.1 to read as follows:]

A publisher must make records available for USPS review and verification on a periodic basis to evaluate indications of ineligibility for Periodicals entry, to verify that the postage statement shows the correct number of copies mailed and the correct postage, and to confirm that publications authorized to carry general advertising meet the applicable circulation standards.

* * * * *

11.0 Basic Eligibility

11.1 Outside-County Prices

11.1.1 General

[Revise the text of 11.1.1 to read as follows:]

Outside-County prices apply to copies of an authorized Periodicals publication mailed by a publisher or news agent that are not eligible for In-County prices under 11.3. Outside-County prices consist of an addressed per piece charge, an entry level charge for the weight of the advertising portion of the publication, an entry level charge for the weight of the nonadvertising portion, and a bundle and container charge.

* * * * *

17.0 Documentation

* * * * *

17.2 Additional Standards for Postage Statements

* * * * *

17.2.3 Waiving Nonadvertising Prices

[Revise the first sentence of 17.2.3 to read as follows:]

Instead of marking a copy of each issue to show the advertising portion, the publisher may pay postage at the advertising prices on both portions of all issues or editions of a Periodicals publication (except a requester publication). * * *

* * * * *

[Revise 17.2.7 to read as follows:]

17.2.7 News Agent's Statement

A news agent presenting Periodicals matter subject to “All Other” prices must provide a statement showing the percentages of such matter devoted to advertising and nonadvertising.

* * * * *

[Revise the title of 17.4 to read as follows:]

17.4 Detailed Entry Listing for Periodicals

17.4.1 Basic Standards

[Revise the text of 17.4.1 to read as follows:]

The publisher must be able to present documentation to support the actual number of copies of each edition of an issue, by entry level, at DDU, DSCF, DADC, All Others, and In-County prices. This listing is separated from the standardized presort documentation required under 17.3. This listing may be submitted with each mailing, or a publisher may keep such records for each mailing for 2 months after the mailing date. A publisher must be able to submit detailed entry listings for specific mailings when requested by the USPS.

17.4.2 Format

[Revise the text of 17.4.2 to read as follows:]

Report the number of copies mailed to each 3-digit ZIP Code area at entry prices using one of the following formats:

a. Report copies by 3-digit ZIP Code, in ascending numeric order, for all ZIP Codes in the mailing. The listing must include these columns: 3-digit ZIP Code, entry level, and number of copies. Include a summary of the number of copies at each entry price at the end of the report. A 3-digit ZIP Code may appear more than once if there are copies at different entry prices for that ZIP Code (for example, In-County and Outside-County copies).

b. Report copies by zone (In-County DDU, In-County others, Outside-County DDU, Outside-County DSCF, Outside-County DADC and Outside-County All Others) and by 3-digit ZIP Code, in ascending numeric order, for each entry level. For each entry level, the listing must include these columns: 3-digit ZIP Code and number of copies in the mailing. Include a summary of the total number of copies for each entry level at the end of each entry listing. A 3-digit ZIP Code may appear under more than one entry level if there are copies at different entry prices for that ZIP Code.

17.4.3 Zone Abbreviations

[Revise the text of 17.4.3 to read as follows:]

Use the actual price name or the authorized entry abbreviation in the listings in 17.3 and 17.4.2.

Zone abbreviation | Price equivalent
ICD | In-County, DDU.
IC | In-County, Others.
DDU | Outside-County, DDU.
SCF | Outside-County, DSCF.
ADC | Outside-County, DADC.
OC | Outside-County, All Others.

* * * * *

500 Additional Mailing Services

503 Extra Services

* * * * *

1.0 Basic Standards for All Extra Services

* * * * *

1.10 Receipts

[Add a sentence after the fourth sentence to read as follows:]

* * * When used for commercial mailings, Form 3877 (firm sheet) may be submitted electronically to PostalOne! and processed at the BMEU. * * *

* * * * *

5.0 Certificates of Mailing

5.1 Basic Standards

5.1.1 Description—Individual Pieces

[Add a sentence at the end of 5.1.1 to read as follows:]

* * * Form 3665 (firm sheet) may be submitted electronically to PostalOne! and processed at the BMEU.

5.1.2 Paying Fees

[Add a sentence at the end of 5.1.2 to read as follows:]

* * * When electronically submitted, postage for Form 3665-Firm must be paid with an EPS (Electronic Payment System) account.

* * * * *

5.1.6 Acceptance

[Revise the last sentence of 5.1.6 to read as follows:]

* * * Certificate of Mailing Form 3665 (including USPS-approved privately printed versions and electronic Form 3665) with mailings of at least 50 pieces or 50 pounds of corresponding articles presented at one time must be presented to a Post Office business mail entry unit (BMEU) or authorized detached mail unit (DMU).

* * * * *

5.2 Other Bulk Quantities—Certificate of Bulk Mailing

5.2.1 Description

[Add text at the end of 5.2.1 to read as follows:]

* * * Mailers must upload the electronic Form 3606-D prior to presenting the mailing at the BMEU for processing. Each electronic Form 3606-D will receive a watermark date stamped receipt after finalization of the mailing.

5.2.2 Paying Fees

[Add a sentence at the end of 5.2.2 to read as follows:]

* * * Mailers submitting electronic Form 3606-D must pay certificate of mailing fees, at the time of mailing, using an EPS account.

5.2.3 Acceptance

[Revise the last sentence of 5.2.3 to read as follows:]

* * * Certificate of Bulk Mailing Form 3606-D (including USPS-approved facsimiles and electronic Form 3606-D) with identical-weight mailings of at least 50 pieces or 50 pounds must be presented to a business mail entry unit (BMEU) or authorized detached mail unit (DMU).

* * * * *

[END DOCUMENT]

Notice 123 (Price List)

[Revise prices as applicable.]

* * * * *

Colleen Hibbert-Kapler,
Attorney, Ethics and Legal Compliance.

[FR Doc. 2023-22606 Filed 10-13-23; 8:45 am]

BILLING CODE P